Title 3—

The President

Executive Order 14240 of March 20, 2025

Eliminating Waste and Saving Taxpayer Dollars by Consolidating Procurement

Section 1. Policy. The Federal Government spends approximately $490 billion per year on Federal contracts for common goods and services—the types of goods and services purchased by nearly every executive department and agency (agencies)—making it the largest buyer of goods and services in the world. As a matter of sound management, these standardized procurement functions should be carried out in the most efficient and effective manner possible for the American taxpayer.

The General Services Administration was established in 1949 through the Federal Property and Administrative Services Act, 40 U.S.C. 101 et seq., to provide “an economical and efficient system” for the core procurement services for agencies (40 U.S.C. 101). It is time to return the General Services Administration to its original purpose, rather than continuing to have multiple agencies and agency subcomponents separately carry out these same functions in an uncoordinated and less economical fashion.

Consolidating domestic Federal procurement in the General Services Administration—the agency designed to conduct procurement—will eliminate waste and duplication, while enabling agencies to focus on their core mission of delivering the best possible services for the American people.

Sec. 2. Definitions. For the purposes of this order:

(a) “Administrator” means the Administrator of General Services.

(b) “Agency” has the meaning given to it in section 3502 of title 44, United States Code, except that such term does not include the Executive Office of the President or any components thereof.

(c) “Agency head” means the highest-ranking official of an agency, such as the Secretary, Administrator, Chairman, or Director.

(d) “Common goods and services” means the common Government-wide categories defined by the Category Management Leadership Council led by the Office of Management and Budget (OMB).

(e) “Indefinite delivery contract vehicle” means an agreement through which an agency can order goods and services over a defined period without setting forth quantities or a delivery schedule up front.

Sec. 3. Procurement Consolidation. (a) Within 60 days of the date of this order, agency heads shall, in consultation with the agency's senior procurement officials, submit to the Administrator proposals, pursuant to 40 U.S.C. 101, 40 U.S.C. 501, or other relevant authorities, to have the General Services Administration conduct domestic procurement with respect to common goods and services for the agency, where permitted by law.

(b) Within 90 days of the date of this order, the Administrator shall submit a comprehensive plan to the Director of OMB for the General Services Administration to procure common goods and services across the domestic components of the Government, where permitted by law.

(c) Within 30 days of the date of this order, pursuant to the authority in 40 U.S.C. 11302(e), the Director of OMB shall designate the Administrator as the executive agent for all Government-wide acquisition contracts for information technology. The Administrator, in consultation with the Director of OMB, shall defer or decline the executive agent designation for Government-wide acquisition contracts for information technology when necessary to ensure continuity of service or as otherwise appropriate. The Administrator shall further, on an ongoing basis and consistent with applicable law, rationalize Government-wide indefinite delivery contract vehicles for information technology for agencies across the Government, including as part of identifying and eliminating contract duplication, redundancy, and other inefficiencies.

(d) Within 14 days of the date of this order, the Director of OMB shall issue a memorandum to agencies implementing subsection (c) of this section.

Sec. 4. General Provisions. (a) Nothing in this order shall be construed to impair or otherwise affect:

(i) the authority granted by law to an executive department, agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

Washington, March 20, 2025.

[FR Doc. 2025-05197

Filed 3-24-25; 8:45 am]

Billing code 3395-F4-P